DEPARTMENT OF ENERGY

Agency Information Collection Under Review by the Office of Management and Budget

AGENCY: Department of Energy.

ACTION: Submission for OMB review; comment request.

SUMMARY: The Department of Energy (DOE) has submitted renewals for an additional three years for the information collection(s) listed at the end of this notice to the Office of Management and Budget (OMB) for review under sections 3507(h)(1) and 3506(c) of the Paperwork Reduction Act of 1995 (Pub. L. 104-13).

Each entry contains the following information: (1) The collection number and title; (2) a summary of the collection of information, type of request (new, revision, extension, or reinstatement), response obligation (mandatory, voluntary, or required to obtain or retain benefits); (3) a description of the need and proposed use of the information; (4) a description of the likely respondents; and (5) an estimate of the total annual reporting burden (i.e., the estimated number of likely respondents times the proposed frequency of response per year times the average hours per response).

DATES: Comments must be filed within 30 days of publication of this notice. If you anticipate that you will be submitting comments but find it difficult to do so within the time allowed by this notice, you should advise the OMB DOE Desk Officer listed below of your intention to do so as soon as possible. The OMB DOE Desk Officer may be telephoned at (202) 395-3084. (Also, please notify the EIA contact listed below.)

ADDRESSES: Address comments to the Department of Energy Desk Officer, Office of Information and Regulatory Affairs, Office of Management and Budget, 726 Jackson Place NW, Washington, DC 20503. (Comments should also be addressed to the Office of Information, Records and Resource Management at the address below.)

FOR FURTHER INFORMATION CONTACT: Requests for additional information should be directed to Peter J. Grahn, Jr., Office of Information, Records and Resource Management (SO-31), Forrestal Building, U.S. Department of Energy, Washington, DC 20585-0670. Mr. Grahn may be contacted by telephone at (301) 903-4653, FAX at (301) 903-6223, or e-mail at Peter.Grahn@hq.doe.gov.

SUPPLEMENTARY INFORMATION: The information collections submitted to OMB for review were:

1. Current OMB No.: 1910-0300. Package Title: Environment, Safety and Health. Summary: A three-year extension is requested, which includes both mandatory and voluntary response obligations. Purpose: This information is required by the Department to ensure that Departmental environment, safety and health resources and requirements are managed efficiently and effectively and to exercise management oversight of DOE contractors. The package contains nine information and/or recordkeeping requirements. Type of Respondents: DOE management and operating contractors and offsite contractors. Estimated Number of Responses: 5,050. Estimated Total Burden Hours: 205,050.

2. Current OMB No.: 1910-0500. Package Title: Financial Management. Summary: A three-year extension is requested for these mandatory response obligations. Purpose: This information is required by the Department to ensure that financial management resources and requirements are managed efficiently and effectively and to exercise management oversight of DOE contractors. The package contains 13 information and/or recordkeeping requirements. Type of Respondents: DOE management and operating contractors and offsite contractors. Estimated Number of Responses: 12,715. Estimated Total Burden Hours: 164,528.

3. Current OMB No.: 1910-1400. Package Title: Compliance Statement: Energy/Water Conservation Standards for Appliances. Summary: A three-year extension is requested for these mandatory response obligations. Purpose: This information is required by the Department to ensure that manufacturers test and maintain records concerning the energy or water consumption of covered products, and precludes the distribution of any such products that do not meet standards established by Congress. By regulation (10 CFR 430.62(a)), DOE requires manufacturers of covered products to submit a compliance statement for each new basic model of a product. The package contains 14 information and/or recordkeeping requirements. Type of Respondents: Manufacturers of products covered in Part 430 of Title 10 of the Code of Federal Regulations. Estimated Number of Responses: 99. Estimated Total Burden Hours: 1,584.

4. Current OMB No.: 1910-5102. Package Title: Reporting and Recordkeeping Requirements for Make-or-Buy Plans. Summary: A three-year extension is requested for these mandatory response obligations. Purpose: This information is required by the Department to ensure that the Department's management and operations are subcontracting in the most cost-effective and efficient manner. Type of Respondents: DOE management and operating contractors and offsite contractors. Estimated Number of Responses: 36. Estimated Total Burden Hours: 5,350.

5. Current OMB No.: 1910-5103. Package Title: Reporting and Recordkeeping Requirements for Safety Management System. Summary: A three-year extension is requested for these mandatory response obligations. Purpose: This information is required by the Department to ensure that the Department's management and operating contractors are performing work safety at DOE facilities. Type of Respondents: DOE management and operating contractors and offsite contractors. Estimated Number of Responses: 7. Estimated Total Burden Hours: 2,450.

Statutory Authority: Sections 3507(h)(1) and 3506(c) of the Paperwork Reduction Act of 1995 (Pub. L. 104-13).

Issued in Washington, DC, May 30, 2000.
Howard Landon,
Director, Office of Special Projects.

[FR Doc. 00-13966 Filed 6-2-00; 8:45 am]

BILLING CODE 6450-01-U